DEPARTMENT OF HEALTH AND HUMAN SERVICES

Centers for Disease Control and Prevention

[Docket No. CDC-2020-0092; NIOSH 278]

Board of Scientific Counselors, National Institute for Occupational Safety and Health (BSC, NIOSH)

AGENCY: Centers for Disease Control and Prevention (CDC), Department of Health and Human Services (HHS).

ACTION: Notice of meeting and request for comment.

SUMMARY: In accordance with the Federal Advisory Committee Act, the CDC announces the following virtual meeting of the Board of Scientific Counselors, National Institute for Occupational Safety and Health (BSC, NIOSH). This meeting is open to the public via webcast and by teleconference. Time will be available for public comment.

DATES: The meeting will be held on September 29, 2020, from 11 a.m.-4:15 p.m., EDT.

If you wish to attend by webcast or teleconference, please register at the NIOSH website http://www.cdc.gov/niosh/bsc/ or call (404-498-2581) no later than September 22, 2020.

Written comments received by September 22, 2020 will be provided to the BSC prior to the meeting. Docket number CDC-2020-0092; NIOSH-278 will close September 29, 2020.

ADDRESSES: You may submit comments, identified by Docket No. CDC-2020-0092; NIOSH-278 by mail. CDC does not accept comments by email.

• Federal eRulemaking Portal: https://www.regulations.gov. Follow the instructions for submitting comments.

• Mail: Docket number CDC-2020-0092; NIOSH-278, c/o Sherri Diana, NIOSH Docket Office, National Institute for Occupational Safety and Health, 1090 Tusculum Avenue, MS C-34, Cincinnati, Ohio 45226.

Instructions: All submissions received must include the Agency name and Docket Number. Written public comments received by September 22, 2020 will be provided to the BSC prior to the meeting. Docket number CDC-2020-0092; NIOSH-278 will close September 29, 2020.

FOR FURTHER INFORMATION CONTACT: Emily J.K. Novicki, M.A., M.P.H., Executive Secretary, BSC, NIOSH, CDC, 1600 Clifton Ave., MS V24-4, Atlanta, GA 30329, telephone (404) 498-2581, or email at enovicki@cdc.gov.

SUPPLEMENTARY INFORMATION: Purpose: The Secretary, the Assistant Secretary for Health, and by delegation the Director, Centers for Disease Control and Prevention, are authorized under Sections 301 and 308 of the Public Health Service Act to conduct directly or by grants or contracts, research, experiments, and demonstrations relating to occupational safety and health and to mine health. The Board of Scientific Counselors provides guidance to the Director, National Institute for Occupational Safety and Health on research and prevention programs. Specifically, the Board provides guidance on the Institute's research activities related to developing and evaluating hypotheses, systematically documenting findings and disseminating results. The Board evaluates the degree to which the activities of the National Institute for Occupational Safety and Health: (1) Conform to appropriate scientific standards, (2) address current, relevant needs, and (3) produce intended results.

Matters To Be Considered: The agenda for the meeting addresses occupational safety and health issues related to: Occupational Data for Health: Progress towards incorporating occupational information in electronic health records and health IT systems; Health Equity and the Paradigm Shift in Occupational Safety and Health; and Evaluation capacity building, a gateway to NIOSH's future impact. An agenda is also posted on the NIOSH website (http://www.cdc.gov/niosh/bsc/).

Meeting Information: Adobe Connect webcast will be available at https://odniosh.adobeconnect.com/nioshbsc/, and teleconference is available toll-free at (855) 644-0229, Participant Pass Code 9777483. This meeting is open to the public, limited only by the number of Adobe license seats available, which is 100.

Public Participation

Comments received are part of the public record and are subject to public disclosure. Do not include any information in your comment or supporting materials that you consider confidential or inappropriate for public disclosure. If you include your name, contact information, or other information that identifies you in the body of your comments, that information will be on public display. CDC will review all submissions and may choose to redact, or withhold, submissions containing private or proprietary information such as Social Security numbers, medical information, inappropriate language, or duplicate/near duplicate examples of a mass-mail campaign. CDC will carefully consider all comments submitted into the docket. CDC does not accept comment by email.

Oral Public Comment: The public is welcome to participate during the public comment period, from 1:30 p.m. to 1:45 p.m., EDT, September 29, 2020. Please note that the public comment period ends at the time indicated above. Each commenter will be provided up to five minutes for comment. A limited number of time slots are available and will be assigned on a first come-first served basis. Members of the public who wish to address the NIOSH BSC are requested to contact the Executive Secretary for scheduling purposes (see FOR FUTHER INFORMATION above).

Written Public Comment: Written comments will also be accepted from those unable to attend the public session per the instructions provided in the address section above. Written comments received in advance of the meeting will be included in the official record of the meeting. Written comments received by September 22, 2020 will be provided to the BSC prior to the meeting. Docket number CDC-2020-0092; NIOSH-278 will close September 29, 2020.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2020-17552 Filed 8-11-20; 8:45 am]

BILLING CODE 4163-18-P